DEPARTMENT OF ENERGY

Federal Energy Regulatory Commission

Combined Notice of Filings #1

Take notice that the Commission received the following electric corporate filings:

Docket Numbers: EC16-42-000.

Applicants: The Williams Companies, Inc., Energy Transfer Equity, L.P.

Description: Application For Authorization Under Section 203 of The Federal Power Act To Merge Jurisdictional Facilities And Requests For Expedited Treatment, Shortened Comment Period, And Waivers of The Williams Companies, Inc., et al.

Filed Date: 11/25/15.

Accession Number: 20151125-5426.

Comments Due: 5 p.m. ET 12/16/15.

Take notice that the Commission received the following electric rate filings:

Docket Numbers: ER10-2331-031; ER14-630-008; ER10-2326-029; ER10-2330-030.

Applicants: J.P. Morgan Ventures Energy Corporation, AlphaGen Power LLC, Cedar Brakes I, L.L.C., Utility Contract Funding, L.L.C.

Description: Supplement to June 23, 2015 Updated market power analysis for the Central Region of the JPMorgan Sellers.

Filed Date: 11/25/15.

Accession Number: 20151125-5425.

Comments Due: 5 p.m. ET 12/16/15.

Docket Numbers: ER15-303-001.

Applicants: PJM Interconnection, L.L.C., American Transmission Systems, Incorporated.

Description: Compliance filing: ATSI compliance filing per 10/29/15 Order revising Attachment H-21A and H-21B to be effective 1/1/2015.

Filed Date: 11/30/15.

Accession Number: 20151130-5173.

Comments Due: 5 p.m. ET 12/21/15.

Docket Numbers: ER15-1883-001; ER15-2601-001; ER15-2101-002; ER15-1925-001; ER15-1418-001; ER14-2707-005; ER14-2138-003; ER13-752-007; ER13-712-009; ER13-2112-003; ER13-1992-005; ER13-1991-005; ER12-569-009; ER12-2227-008; ER12-2226-006; ER12-2225-006; ER12-1228-010; ER11-3635-007; ER11-2642-008; ER11-26-008; ER11-2160-007; ER11-2037-008; ER10-2551-007; ER10-2006-009; ER10-2005-008; ER10-1966-007; ER10-1965-008; ER10-1964-008; ER10-1963-007; ER10-1962-007; ER10-1961-008; ER10-1952-008; ER10-1950-008; ER10-1935-007; ER10-1932-007; ER10-1931-007; ER10-1930-006; ER10-1928-010; ER10-1927-008; ER10-1925-008; ER10-1920-010; ER10-1918-008; ER10-1915-007; ER10-1907-008; ER10-1906-006; ER10-1905-008; ER10-1903-008; ER10-1902-008; ER10-1899-008; ER10-1897-008; ER10-1890-007; ER10-1887-008; ER10-1857-007; ER10-1856-007; ER10-1855-007; ER10-1852-012; ER10-1851-006; ER10-1849-008; ER10-1847-007; ER10-1846-007; ER10-1845-008; ER10-1844-008; ER10-1843-008; ER10-1841-008; ER10-1838-008; ER10-1836-008.

Applicants: Adelanto Solar, LLC, Adelanto Solar, LLC, Adelanto Solar II, LLC, Ashtabula Wind, LLC, Ashtabula Wind II, LLC, Ashtabula Wind III, LLC, Backbone Mountain Windpower LLC, Baldwin Wind, LLC, Bayswater Peaking Facility, LLC, Blackwell Wind, LLC, Breckinridge Wind Project, LLC, Butler Ridge Wind Energy Center, LLC, Cimarron Wind Energy, LLC, Crystal Lake Wind, LLC, Crystal Lake Wind II, LLC, Crystal Lake Wind III, LLC, Day County Wind, LLC, Desert Sunlight 250, LLC, Desert Sunlight 300, LLC, Diablo Winds, LLC, Elk City Wind, LLC, Elk City II Wind, LLC, Energy Storage Holdings, LLC, Ensign Wind, LLC, ESI Vansycle Partners, L.P., Florida Power & Light Company, FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, L.L.C, FPL Energy Wyman, LLC, FPL Energy Wyman IV, LLC, Garden Wind, LLC, Genesis Solar, LLC, Golden West Power Partners, LLC, Gray County Wind Energy, LLC, Green Mountain Storage, LLC, Hatch Solar Energy Center I, LLC, Hawkeye Power Partners, LLC, High Majestic Wind Energy Center, LLC, High Majestic Wind II, LLC, High Winds, LLC, Jamaica Bay Peaking Facility, LLC, Lake Benton Power Partners II, LLC, Langdon Wind, LLC, Limon Wind, LLC, Limon Wind II, LLC, Limon Wind III, LLC, Logan Wind Energy LLC, Mammoth Plains Wind Project, LLC.

Description: Supplement to October 28, 2015 Notice of Change in Status of the NextEra Energy Companies [Part 1 of 2].

Filed Date: 11/25/15.

Accession Number: 20151125-5220.

Comments Due: 5 p.m. ET 12/16/15.

Docket Numbers: ER16-414-000.

Applicants: PJM Interconnection, L.L.C.

Description: § 205(d) Rate Filing: Revised Service Agreement No. 1135; Queue K4 (ISA—Assignment Agreement) to be effective 6/4/2004.

Filed Date: 11/30/15.

Accession Number: 20151130-5047.

Comments Due: 5 p.m. ET 12/21/15.

Docket Numbers: ER16-415-000.

Applicants: PJM Interconnection, L.L.C.

Description: § 205(d) Rate Filing: Revised Service Agreement No. 1791; Queue R74 (WMPA—Assignment Agreement) to be effective 10/30/2007.

Filed Date: 11/30/15.

Accession Number: 20151130-5057.

Comments Due: 5 p.m. ET 12/21/15.

Docket Numbers: ER16-416-000.

Applicants: PJM Interconnection, L.L.C.

Description: § 205(d) Rate Filing: Original Service Agreement No. 4312; Queue No. AA2-058 to be effective 10/29/2015.

Filed Date: 11/30/15.

Accession Number: 20151130-5083.

Comments Due: 5 p.m. ET 12/21/15.

Docket Numbers: ER16-417-000.

Applicants: Southern California Edison Company.

Description: § 205(d) Rate Filing: Distribution Service Agreement Mirasol Development, LLC Ivanhoe Land 1A Project to be effective 1/30/2016.

Filed Date: 11/30/15.

Accession Number: 20151130-5092.

Comments Due: 5 p.m. ET 12/21/15.

Docket Numbers: ER16-418-000.

Applicants: Southern California Edison Company.

Description: § 205(d) Rate Filing: Distribution Service Agreement Mirasol Development, LLC Ivanhoe Land 1B Project to be effective 1/30/2016.

Filed Date: 11/30/15.

Accession Number: 20151130-5093.

Comments Due: 5 p.m. ET 12/21/15.

Docket Numbers: ER16-419-000.

Applicants: Dominion Energy Marketing, Inc.

Description: Compliance filing: Compliance Filing—DEMI Removal of Affiliate Waiver to be effective 11/1/2015.

Filed Date: 11/30/15.

Accession Number: 20151130-5124.

Comments Due: 5 p.m. ET 12/21/15.

Docket Numbers: ER16-420-000.

Applicants: Southwest Power Pool, Inc.

Description: § 205(d) Rate Filing: 3103 Plains and Eastern Clean Line Oklahoma & SPS Inter Agr to be effective 11/6/2015.

Filed Date: 11/30/15.

Accession Number: 20151130-5152.

Comments Due: 5 p.m. ET 12/21/15.

Docket Numbers: ER16-421-000.

Applicants: Dominion Nuclear Connecticut, Inc.

Description: Compliance filing: Compliance Filing—DNCI Removal of Affiliate Waiver to be effective 11/1/2015.

Filed Date: 11/30/15.

Accession Number: 20151130-5153.

Comments Due: 5 p.m. ET 12/21/15.

Docket Numbers: ER16-422-000.

Applicants: PJM Interconnection, L.L.C.

Description: § 205(d) Rate Filing: Original Service Agreement No. 4300; Queue No. Z1-079 to be effective 10/30/2015.

Filed Date: 11/30/15.

Accession Number: 20151130-5163.

Comments Due: 5 p.m. ET 12/21/15.

Docket Numbers: ER16-423-000.

Applicants: PJM Interconnection, L.L.C.

Description: § 205(d) Rate Filing: Second Revised Service Agreement No. 2775; Queue No. Y3-045/Y3-052/Y3-107 to be effective 10/29/2015.

Filed Date: 11/30/15.

Accession Number: 20151130-5172.

Comments Due: 5 p.m. ET 12/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2015.
Nathaniel J. Davis, Sr.,
Deputy Secretary.

[FR Doc. 2015-30705 Filed 12-4-15; 8:45 am]

BILLING CODE 6717-01-P